INTERNATIONAL TRADE COMMISSION

[Investigation Nos. 731-TA-344, 391-A, 392-A and C, 393-A, 394-A, 396, and 399-A (Second Review)]

Certain Bearings From China, France, Germany, Italy, Japan, Singapore, and the United Kingdom

Determinations

On the basis of the record ¹ developed in the subject five-year reviews, the United States International Trade Commission (Commission) determines,² pursuant to section 751(c) of the Tariff Act of 1930 (19 U.S.C. 1675(c)) (the Act), that revocation of the antidumping duty orders on the following types of bearings from China, France, Germany, Japan, and the United Kingdom would be likely to lead to continuation or recurrence of material injury to an industry in the United States within a reasonably foreseeable time.

¹ The record is defined in sec. 207.2(f) of the Commission's Rules of Practice and Procedure (19 CFR 207.2(f)).

² Commissioner Deanna Tanner Okun not participating.

Product | Country | Investigation No.
Tapered roller bearings | China ³ | 731-TA-344
Ball bearings | France | 731-TA-392-A
Ball bearings | Germany | 731-TA-391-A
Ball bearings | Italy | 731-TA-393-A
Ball bearings | Japan | 731-TA-394-A
Ball bearings | United Kingdom | 731-TA-399-A

The Commission also determines that revocation of the antidumping duty orders on the following types of bearings from France and Singapore would not be likely to lead to continuation or recurrence of material injury to an industry in the United States within a reasonably foreseeable time.

³ Chairman Daniel R. Pearson dissenting.

Product | Country | Investigation No.
Ball bearings | Singapore ⁴ | 731-TA-396
Spherical plain bearings | France ⁵ | 731-TA-392-C

Background

The Commission instituted these reviews on June 1, 2005 (70 FR 31531) and determined on September 7, 2005 that it would conduct full reviews (70 FR 54568, September 15, 2005). Notice of the scheduling of the Commission's reviews and of a public hearing to be held in connection therewith was given by posting copies of the notice in the Office of the Secretary, U.S. International Trade Commission, Washington, DC, and by publishing the notice in the Federal Register on October 18, 2005 (70 FR 60556).⁶ The hearing was held in Washington, DC, on May 2, 2006, and all persons who requested the opportunity were permitted to appear in person or by counsel.

⁴ Commissioner Charlotte R. Lane dissenting.

⁵ Commissioners Stephen Koplan and Charlotte R. Lane dissenting.

⁶ The schedule of the Commission's reviews and of the public hearing was revised on December 9, 2005 (70 FR 75482, December 20, 2005) and on May 4, 2006 (71 FR 27513, May 11, 2006).

The Commission transmitted its determination in this review to the Secretary of Commerce on August 25, 2006. The views of the Commission are contained in USITC Publication 3876 (August 2006), entitled Certain Bearings from China, France, Germany, Italy, Japan, Singapore, and the United Kingdom: Investigation Nos. 731-TA-344, 391-A, 392-A and C, 393-A, 394-A, and 399-A (Second Review).

By order of the Commission.
Issued: August 28, 2006.
Marilyn R. Abbott,
Secretary to the Commission.

[FR Doc. 06-7350 Filed 8-30-06; 8:45 am]

BILLING CODE 7020-02-P